DEPARTMENT OF HOMELAND SECURITY

U.S. Customs and Border Protection

Certain DHS Immigration Fees Required by HR-1: Fiscal Year 2026 Adjustments for Inflation

AGENCY: U.S. Customs and Border Protection, DHS.

ACTION: Notice of inflationary fee adjustment.

SUMMARY: The Department of Homeland Security (DHS) is announcing Fiscal Year (FY) 2026 inflationary adjustments to certain immigration-related fees required by the One Big Beautiful Bill Act (HR-1). HR-1 requires that DHS annually adjust certain immigration-related fees for inflation. This notice sets the inflation-adjusted FY 2026 fee amounts for the following immigration fees required by HR-1: the fee for enrollment in the Electronic Visa Update System (EVUS), the Electronic System for Travel Authorization (ESTA) fee, and the fee for an alien paroled into the United States. In accordance with HR-1, the existing fee for Form I-94 Arrival/Departure Record applications will not change for FY 2026.

DATES:

HR-1 Parole Fee: U.S. Customs and Border Protection (CBP), U.S. Citizenship and Immigration Services (USCIS), and U.S. Immigration and Customs Enforcement (ICE) will begin assessing the FY 2026 amount for the HR-1 parole fee described in this notice on January 1, 2026.

HR-1 I-94, ESTA, and EVUS Fees: CBP will begin assessing the FY 2026 amounts for the HR-1 I-94, ESTA, and EVUS fees described in this notice on January 1, 2026.

FOR FURTHER INFORMATION CONTACT:

For questions regarding the HR-1 parole fee, by component:

CBP: Office of Field Operations, U.S. Customs and Border Protection, Department of Homeland Security, 1300 Pennsylvania Avenue NW, Suite 1500N, Washington, DC 20229, email address: parolenotification@cbp.dhs.gov.

USCIS: Office of Chief Financial Officer, U.S. Citizenship and Immigration Services, Department of Homeland Security, 5900 Capital Gateway Drive, Camp Springs, MD 20746, telephone (240) 721-3000 (not a toll-free number).

ICE: Office of Regulatory Affairs and Policy, U.S. Immigration and Customs Enforcement, Department of Homeland Security, 500 12th Street SW, Washington, DC 20536; telephone (202) 732-6960 (not a toll-free number).

For questions regarding the HR-1 I-94, ESTA, and EVUS fees:

Melanie Mataxas, Director, Electronic Systems Travel Authorization, Office of Field Operations, U.S. Customs and Border Protection, at 202-325-1372 or at melanie.d.mataxas@cbp.dhs.gov.

SUPPLEMENTARY INFORMATION:

I. Background and Legal Authority

On July 4, 2025, the President signed into law the One Big Beautiful Bill Act, Public Law 119-21, 139 Stat. 72 (HR-1). HR-1 was a comprehensive legislative package that changed many laws and added new laws that touch many areas of the United States Government. Among those changes, the law established new immigration fees and increased existing fees for certain immigration-related actions. The statute established minimum fees for Fiscal Year (FY) 2025 and required annual adjustments to the fees in subsequent fiscal years based on the Consumer Price Index for All Urban Consumers (CPI-U).¹

¹ See Public Law 119-21 secs. 100004(d), 100008(b)(2), 100014(3), 100015(b)(2), codified as 8 U.S.C. 1804(d), 8 U.S.C. 1807(b)(2), 8 U.S.C. 1187(h)(3)(B)(iv), and 8 U.S.C. 1813(b)(2).

Among other immigration fees specified in HR-1, the Secretary of Homeland Security must require the payment of a fee by any alien who is paroled into the United States, unless an exception in Public Law 119-21 section 100004(b) applies (the HR-1 parole fee). See Public Law 119-21 sec. 100004. Several Department of Homeland Security (DHS) components, including U.S. Immigration and Customs Enforcement (ICE), U.S. Citizenship and Immigration Services (USCIS), and U.S. Customs and Border Protection (CBP), have responsibilities for assessing and collecting the HR-1 parole fee. DHS published a joint notice in the Federal Register on October 16, 2025, announcing the implementation of the HR-1 parole fee and the FY 2025 rate for the HR-1 parole fee.²

² 90 FR 48317 (Oct. 16, 2025).

CBP also administers several other fees specified in HR-1,³ including requiring fees for submitting an application for a CBP Form I-94 Arrival/Departure Record, for using the Electronic System for Travel Authorization (ESTA) and receiving ESTA travel authorizations, and for enrolling in the Electronic Visa Update System (EVUS). See Public Law 119-21 secs. 100008, 100014, 100015. CBP announced the implementation of these fees, including the initial FY 2025 rates for these fees, through a notice published in the Federal Register on August 28, 2025, and began assessing and requiring those fees on September 30, 2025.⁴

³ The Secretary of Homeland Security has delegated the authority to enforce and administer the immigration laws to the Commissioner of U.S. Customs and Border Protection. See DHS Delegation No. 07010.3, Delegation of Authority to the Commissioner of U.S. Customs and Border Protection, (Rev. No. 03.2, Incorporating Change 2) at II.B.1 (Dec. 11, 2024).

⁴ 90 FR 42025 (Aug. 28, 2025).

II. FY 2026 Inflation Adjustments to Certain Immigration Fees Required by HR-1

In accordance with HR-1, most immigration-related fees required by HR-1 are subject to annual inflation adjustments. This notice states the FY 2026 rates for the HR-1 parole, I-94, ESTA, and EVUS fees (collectively, the HR-1 fees).

Generally, HR-1 requires the multiplication of an HR-1 fee or a portion of an HR-1 fee from the prior FY by the percentage, if any, by which the CPI-U for the month of July preceding the date on which the adjustment takes effect exceeds the CPI-U for the July of the preceding calendar year (the inflation adjustment). In July 2024, the CPI-U was 314.540, and in July 2025, the CPI-U was 323.048. Therefore, between July 2024 and July 2025, the CPI-U increased by 2.70 percent.⁵ To determine the total HR-1 fee for each FY, the inflation adjustment is then added to the HR-1 fee or portion of the HR-1 fee used in the calculation of the inflation adjustment, pursuant to the statutorily prescribed formula. The specifics of the statutory inflation adjustment formulas differ for each HR-1 fee. The following table provides a summary of the inflation-adjusted FY 2026 HR-1 fees described in this notice

⁵ Bureau of Labor Statistics, Consumer Price Index—July 2025, August 12, 2025, https://www.bls.gov/news.release/archives/cpi_08122025.htm (last visited Oct. 21, 2025).

and the following subsections further detail the HR-1 inflation adjustment requirements.

Certain FY 2026 Fees, as Required by HR-1
HR-1, Public Law 119-21 (139 Stat. 72) section | Action | Total FY 2025 fee (existing fee) | FY 2026 inflation adjustment | Total FY 2026 fee (revised fee)
100004 | Parole into the United States | $1,000 | +$20 | $1,020
100008 | Application for CBP Form I-94 at land border ports of entry | 30 | ⁶ +0 | ⁷ 30
100014 | ESTA authorization | 40 | +0.27 | ⁸ 40.27
100015 | EVUS enrollment | 30 | +0.75 | 30.75

A. DHS HR-1 Parole Fee

⁶ Section II.B. explains the inflation adjustment formula for the HR-1 I-94 fee and details why, upon applying the inflation adjustment formula and rounding down to the nearest dollar, the fee amount will not increase in FY 2026.

⁷ This $30 total includes the $6 land border fee. Payment of the $6 land border fee is required pursuant to 8 CFR 103.7(d)(4), 235.1(h)(1), and 286.9(b)(1), and is not a fee that is required by HR-1.

⁸ Section II.C. explains the inflation adjustment formula found in Public Law 119-21 sec. 100014(3) (8 U.S.C. 1187(h)(3)(B)(iv)) and the resulting FY 2026 ESTA fee calculations for CBP processing of ESTA applications and travel authorizations.

Pursuant to HR-1, the Secretary of Homeland Security must require the payment of a fee by any alien who is paroled into the United States, unless an exception in Public Law 119-21 section 100004(b) applies. See Public Law 119-21 sec. 100004 (8 U.S.C. 1804). Specifically, this fee is required each time an alien is granted parole under sec. 212(d)(5)(A) of the Immigration and Nationality Act (INA), 8 U.S.C. 1182(d)(5)(A), including initial parole from outside the United States, parole in place, re-parole, or parole from DHS custody. See 90 FR 48317, 48318.

During FY 2026 and each subsequent FY, DHS is required to adjust the HR-1 parole fee for inflation. See Public Law 119-21 sec. 100004(d). This notice announces the FY 2026 inflation-adjusted HR-1 parole fee for all DHS components, including ICE, USCIS, and CBP.

Pursuant to HR-1, DHS is required to adjust the HR-1 parole fee by adding an inflation adjustment amount, rounded to the next lowest multiple of $10, to the amount of the fee for the most recently concluded fiscal year. Id. For FY 2025, HR-1 set an initial minimum fee amount of $1,000. See Public Law 119-21 sec. 100004(c). The FY 2026 inflation adjustment amount is $27.05 rounded to the next lowest multiple of $10, which is $20.

Accordingly, the inflation-adjusted HR-1 parole fee for FY 2026 will be $1,020 ($1,000 + $20). The HR-1 parole fee will not be assessed if the alien establishes, to the satisfaction of DHS, on an individual, case-by-case basis, that the circumstances of the alien's parole align with at least 1 of the 10 exceptions found in HR-1. See Public Law 119-21 sec. 100004(b). The operative event that triggers the statutory obligation to pay the HR-1 parole fee is the actual grant and effectuation of parole at or into the United States—not the filing of an application or request. Thus, unless statutorily excepted, the FY 2026 inflation-adjusted HR-1 parole fee will be collected from any alien who is granted parole on or after January 1, 2026, regardless of when the underlying application or request was submitted.

The $1,020 HR-1 parole fee is required in addition to any other fee authorized by law. See Public Law 119-21 sec. 100004(a).

B. CBP Form I-94 Arrival/Departure Record

CBP issues an electronic CBP Form I-94 Arrival/Departure Record to all arriving aliens who are legally required to submit that form (unless otherwise exempted). See parts 1.4 and 235.1(h) of title 8 of the Code of Federal Regulations (8 CFR 1.4, 235.1(h)). CBP Form I-94 serves as evidence of the terms of the alien's admission or parole and is generally issued at the time the alien is admitted or paroled at a U.S. port of entry. See 8 CFR 235.1(h). Aliens arriving at a land border port of entry who are legally required to submit a CBP Form I-94 must apply for that form.

Pursuant to HR-1, the Secretary of Homeland Security must require the payment of a fee for any alien who submits an application for a Form I-94 Arrival/Departure Record (the HR-1 I-94 fee). See Public Law 119-21 sec. 100008 (8 U.S.C. 1807). For FY 2025, the statute set an initial minimum fee amount of $24. See Public Law 119-21 sec. 100008(b)(1).

During FY 2026 and each subsequent FY, CBP is required to adjust the HR-1 I-94 fee for inflation. See Public Law 119-21 sec. 100008(b)(2). The statutory formula requires adding an inflation adjustment amount, rounded down to the nearest dollar, to the amount of the fee required under Public Law 119-21 sec. 100008(b) for the most recently concluded fiscal year. Id. For FY 2026, the inflation adjustment required by Public Law 119-21 sec. 100008(b)(2)(B) is $0.65 rounded down to the nearest dollar, which is $0. Thus, the HR-1 I-94 fee for FY 2026 will remain at $24 ($24 + $0).

The HR-1 I-94 fee is required in addition to any other fee authorized by law. See Public Law 119-21 sec. 100008(a). Currently, CBP imposes a $6 fee for aliens who are legally required to be issued, or request to be issued, CBP Form I-94 and who intend to arrive at a land border port of entry. See 8 CFR 103.7(d)(4), 235.1(h)(1), and 286.9(b)(1). Accordingly, the total fee to apply for a CBP Form I-94 at a land border port of entry for FY 2026 will continue to be $30, consisting of the $6 land border fee and the $24 HR-1 fee. CBP will not assess a fee for aliens arriving at an air or sea port of entry because such aliens are not required to submit an application for a CBP Form I-94.

C. Electronic System for Travel Authorization (ESTA)

ESTA is the online system through which aliens intending to enter the United States under the Visa Waiver Program (VWP) must obtain an electronic travel authorization in advance of travel to the United States.⁹ Each alien intending to travel by air, sea, or land to the United States under the VWP must receive a travel authorization via ESTA prior to travel. See INA sec. 217 (8 U.S.C. 1187) and 8 CFR part 217. Prior to the enactment of HR-1, CBP required a fee of $21 for each ESTA authorization. Section 100014 of Public Law 119-21 amended section 217(h)(3)(B) of the INA (8 U.S.C. 1187(h)(3)(B)) to increase the fee for ESTA authorizations to $40 in FY 2025.

⁹ For additional information on the Visa Waiver Program, see 8 U.S.C. 1187 and 8 CFR part 217.

The FY 2025 ESTA authorization fee of $40, as required by HR-1, is the sum of three fees, including: $17 per travel authorization as provided for in 8 U.S.C. 1187(h)(3)(B)(i)(I), $10 as provided for in 8 U.S.C. 1187(h)(3)(B)(i)(II) to ensure recovery of the full costs of providing and administering the ESTA System, and $13 per travel authorization as provided for in 8 U.S.C. 1187(h)(3)(B)(i)(III). The 8 U.S.C. 1187(h)(3)(B)(i)(II) cost recovery fee is required for all applications, regardless of authorization or denial; thus, in the event the ESTA application is denied, HR-1 set a $10 fee for FY 2025. See 8 U.S.C. 1187(h)(3)(B).

During FY 2026 and each subsequent FY, CBP is required to adjust the 8 U.S.C. 1187(h)(3)(B)(i)(II) cost recovery fee for inflation. See 8 U.S.C. 1187(h)(3)(B)(iv). Under HR-1, the adjusted 8 U.S.C. 1187(h)(3)(B)(i)(II) cost recovery fee is calculated by adding the amount required under 8 U.S.C. 1187(h)(3)(B)(i)(II) for the previous FY to the inflation adjustment amount. See 8 U.S.C. 1187(h)(3)(B)(iv). For FY 2025, the amount required under 8 U.S.C. 1187(h)(3)(B)(i)(II) was $10. The inflation adjustment for FY 2026 is $0.27. HR-1 does not direct CBP to round the HR-1 ESTA inflation adjustment. Thus, for FY 2026, the 8 U.S.C. 1187(h)(3)(B)(i)(II) cost recovery fee will be $10.27 ($10 + $0.27).

As noted previously, the 8 U.S.C. 1187(h)(3)(B)(i)(II) cost recovery fee is one of three fees that, when combined, comprise the total ESTA authorization fee for each FY. This notice does not alter the $17 or $13 fees required under 8 U.S.C. 1187(h)(3)(B)(i)(I) and 8 U.S.C. 1187(h)(3)(B)(i)(III), respectively. Thus, as required by HR-1, the inflation-adjusted FY 2026 ESTA fee will be $40.27 ($17 + $10.27 + $13) per travel authorization. In the event the ESTA application is denied, the FY 2026 fee is $10.27 to ensure recovery of the costs of providing and administering the ESTA System.

D. Electronic Visa Update System (EVUS)

EVUS is an online system currently used by nationals of the People's Republic of China (PRC) holding a 10-year B-1, B-2, or B-1/B-2 (visitor) visa to provide required information to DHS prior to travel to the United States. See 8 CFR part 215, subpart B.¹⁰ PRC nationals with an approved U.S.-issued visa of a designated category must enroll in EVUS and provide or update personal and travel information to receive a determination of travel eligibility. See 8 CFR 215.24.

¹⁰ In a Federal Register notice published on October 20, 2016 (81 FR 72600), DHS identified the PRC as an EVUS country and designated B-1, B-2, and B-1/B-2 visas issued without restriction for the maximum validity period and contained in a passport issued by the PRC as designated visa categories for purposes of EVUS.

Pursuant to HR-1, the Secretary of Homeland Security must require the payment of a fee by any alien enrolling in EVUS. Public Law 119-21 sec. 100015 (8 U.S.C. 1813). The alien must pay the fee at the time of enrollment. Id. For FY 2025, the statute set a minimum fee amount of $30. See Public Law 119-21 sec. 100015(b)(1).

During FY 2026 and each subsequent FY, CBP is required to adjust the HR-1 EVUS fee for inflation. See Public Law 119-21 sec. 100015(b)(2). The statutory formula requires adding an inflation adjustment amount, rounded down to the next lowest multiple of $0.25, to the amount of the fee required under Public Law 119-21 sec. 100015(b) for the most recently concluded fiscal year. Id. For FY 2026, the inflation adjustment under Public Law 119-21 sec. 100015(b)(2)(B) is $0.81 rounded down to the next lowest multiple of $0.25, which is $0.75. Thus, the inflation-adjusted HR-1 EVUS fee for FY 2026 is $30.75 ($30 + $0.75).

This $30.75 HR-1 EVUS fee is required in addition to any other fee applicable by law. See Public Law 119-21 sec. 100015(a).

Kristi L. Noem,
Secretary of Homeland Security.

[FR Doc. 2025-20304 Filed 11-18-25; 8:45 am]

BILLING CODE 9111-14-P